Proclamation 7674 of May 7, 2003

Mother's Day, 2003

By the President of the United States of America

A Proclamation

On Mother's Day, we honor the dedicated and caring women who are devoted to their families and committed to improving the world their children will inherit. Our first President, George Washington, said that his mother was “the most beautiful woman I ever saw. All I am I owe to my mother.” America owes much of its goodness and strength to mothers, including adoptive mothers, stepmothers, and foster mothers.

Mother's Day began as a day of love and friendship, designed to help heal families divided across battle lines during the Civil War. In 1914, President Woodrow Wilson signed a resolution officially establishing Mother's Day to honor the role of women in the family. On Mother's Day, 2003, we carry on the tradition by recognizing our mothers for their strength and compassion. We also recognize them for showing unconditional love and teaching positive values.

Mothers nurture a child's physical and emotional growth, nurse illness, ease failure, and cheer success. They instill important values in children and help provide the tools they need to make the right choices and grow up to be responsible, compassionate, and successful members of society.

As we honor our mothers on this special day, we celebrate their contributions to the character of our next generation of leaders. And we remember the lessons our mothers have taught us: That it is better to give than to receive, that we must love our neighbors as ourselves, and that service to others brings joy.

The Congress, by a joint resolution approved May 8, 1914, as amended (38 Stat. 770), has designated the second Sunday in May each year as “Mother's Day” and has requested the President to call for its appropriate observance. It is my honor and privilege to do so again.

NOW, THEREFORE, I, GEORGE W. BUSH, President of the United States of America, do hereby proclaim May 11, 2003, as Mother's Day. I encourage all Americans to express their love, respect, and appreciation to mothers everywhere for their contributions to their children, families, communities, and our Nation. I also call upon citizens to observe this day with appropriate programs, ceremonies, and activities.

IN WITNESS WHEREOF, I have hereunto set my hand this seventh day of May, in the year of our Lord two thousand three, and of the Independence of the United States of America the two hundred and twenty-seventh.

B

[FR Doc. 03-11843

Filed 5-8-03; 10:40 am]

Billing code 3195-01-P